FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 12, 2002.

A. Federal Reserve Bank of Richmond (A. Linwood Gill, III, Vice President) 701 East Byrd Street, Richmond, Virginia 23261-4528:

1. Charles F. Sposato, Elkton, Maryland; to acquire additional voting shares of Cecil Bancorp, Inc., Elkton, Maryland, and thereby indirectly acquire additional voting shares of Cecil Federal Bank, Elkton, Maryland.

B. Federal Reserve Bank of St. Louis (Randall C. Sumner, Vice President) 411 Locust Street, St. Louis, Missouri 63166-2034:

1. Harrell Investment Partners Limited Partnership, Camden, Arkansas, and Searcy W. Harrell, Jr., and Peggy Harrell, Camden, Arkansas, as general partners, to gain control of Harrell Bancshares, Inc., Camden, Arkansas, and thereby indirectly acquire voting shares of Calhoun County Bank, Hampton, Arkansas, and First Bank of South Arkansas, Camden, Arkansas.

C. Federal Reserve Bank of San Francisco (Maria Villanueva, Consumer Regulation Group) 101 Market Street, San Francisco, California 94105-1579:

1. Nagy Family Limited Partnership I, a Washington limited partnership, Ferenc Nagy and Susanna Nagy, general partners, and Ferenc Nagy and Eva Brevick, as individuals, all of Seattle, Washington; to acquire voting shares of Viking Financial Services Corp., Seattle, Washington, and thereby indirectly acquire voting shares of Viking Community Bank, Seattle, Washington.

Board of Governors of the Federal Reserve System, October 22, 2002.
Robert deV. Frierson,
Deputy Secretary of the Board.

[FR Doc. 02-27307 Filed 10-25-02; 8:45 am]

BILLING CODE 6210-01-S